DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Cecil County, Maryland, and Incorporated Areas
Docket No.: FEMA-B-1145
Back Creek | Approximately 224 feet downstream of 2nd Street | +11 | Unincorporated Areas of Cecil County
| Approximately 1,136 feet upstream of Old Telegraph Road | +11
Big Elk Creek | Approximately 0.68 mile downstream of West Pulaski Road | +11 | Town of Elkton, Unincorporated Areas of Cecil County.
| Approximately 1,140 feet downstream of Elk Mills Road | +81
Bohemia River | At Augustine Herman Highway | +11 | Unincorporated Areas of Cecil County.
| Approximately 860 feet upstream of Old Telegraph Road | +11
Chesapeake and Delaware Canal | Approximately 0.92 mile upstream of Augustine Herman Highway | +11 | Unincorporated Areas of Cecil County.
| Approximately 1.96 miles upstream of Augustine Herman Highway | +11
Christina River | At the New Castle County boundary | +160 | Unincorporated Areas of Cecil County.
| Approximately 100 feet downstream of the Chester County boundary | +268
Dogwood Run | At the Little Elk Creek confluence | +22 | Town of Elkton, Unincorporated Areas of Cecil County.
| Approximately 60 feet downstream of Blue Ball Road | +27
Gravelly Run | At the Little Elk Creek confluence | +50 | Unincorporated Areas of Cecil County.
| Approximately 246 feet downstream of Blue Ball Road | +57
Hall Creek | At Glebe Road | +11 | Unincorporated Areas of Cecil County.
| Approximately 0.86 mile upstream of Mill Lane | +11
Herring Creek | Approximately 2.74 miles downstream of Augustine Herman Highway | +11 | Unincorporated Areas of Cecil County.
| Approximately 1,609 feet downstream of Augustine Herman Highway | +11
Laurel Run | At the Little Elk Creek confluence | +40 | Unincorporated Areas of Cecil County.
| Approximately 1,500 feet downstream of the West Branch Laurel Run confluence | +59
Little Bohemia Creek | At the Bohemia Creek confluence | +11 | Unincorporated Areas of Cecil County.
| At Bohemia Church Road | +11
Little Elk Creek | Approximately 631 feet downstream of West Pulaski Highway | +14 | Town of Elkton, Unincorporated Areas of Cecil County.
| Approximately 1,220 feet downstream of Elkton Road | +16
Little Elk Creek | Approximately 425 feet downstream of the Laurel Run confluence | +39 | Unincorporated Areas of Cecil County.
| Approximately 910 feet downstream of Heron Lane | +58
Little Northeast Creek | Approximately 210 feet upstream of Pulaski Highway | +38 | Unincorporated Areas of Cecil County.
| Approximately 757 feet downstream of Chessie System Railroad | +74
Long Creek | At Boat Yard Road | +11 | Unincorporated Areas of Cecil County.
| At Woods Road | +11
Mill Creek | Approximately 1,095 feet downstream of Access Road | +12 | Town of Perryville, Unincorporated Areas of Cecil County.
| Approximately 260 feet downstream of Principio Road | +284
Mill Creek (Tributary to Little Elk Creek) | Approximately 1,624 feet downstream of Old Elk Neck Road | +11 | Unincorporated Areas of Cecil County.
| Approximately 1,939 feet upstream of Old Elk Neck Road | +11
Northeast Creek | Approximately 542 feet downstream of Main Street | +12 | Town of North East, Unincorporated Areas of Cecil County.
| Approximately 125 feet downstream of Chessie System Railroad | +72
Perch Creek | Approximately 0.49 mile downstream of Augustine Herman Highway | +11 | Unincorporated Areas of Cecil County.
| At Augustine Herman Highway | +11
Plum Creek | Approximately 1.32 miles downstream of Old Field Point Road | +11 | Unincorporated Areas of Cecil County.
| Approximately 1,154 feet upstream of Old Elk Neck Road | +11
Susquehanna River | Approximately 1.75 miles upstream of I-95 | +12 | Unincorporated Areas of Cecil County.
| At U.S. Route 1 | +38
Tributary 1 to Stone Run | At the Stone Run confluence | +271 | Town of Rising Sun, Unincorporated Areas of Cecil County.
| Approximately 460 feet downstream of Pierce Road | +359
Tributary 2 to Stone Run | At the Stone Run confluence | +271 | Town of Rising Sun, Unincorporated Areas of Cecil County.
| At the upstream side of Harrington Drive | +312
Unnamed Tributary to Laurel Run | Approximately 230 feet upstream of the Laurel Run confluence | +41 | Unincorporated Areas of Cecil County.
| Approximately 1,400 feet upstream of the Laurel Run confluence | +52
West Branch Christina River | Approximately 600 feet upstream of the Newcastle County boundary | +108 | Unincorporated Areas of Cecil County.
| Approximately 250 feet upstream of Jackson Hall School Road | +193
West Branch Laurel Run | Approximately 494 feet upstream of the Laurel Run confluence | +64 | Unincorporated Areas of Cecil County.
| Approximately 93 feet upstream of Marley Road | +74
* National Geodetic Vertical Datum.
+ North American Vertical Datum.
# Depth in feet above ground.
‸ Mean Sea Level, rounded to the nearest 0.1 meter.
ADDRESSES
Town of Elkton
Maps are available for inspection at the Municipal Building, 100 Railroad Avenue, Elkton, MD 21921.
Town of North East
Maps are available for inspection at the Town Hall, 106 South Main Street, North East, MD 21901.
Town of Perryville
Maps are available for inspection at the Municipal Building, 515 Broad Street, Perryville, MD 21903.
Town of Rising Sun
Maps are available for inspection at the Municipal Building, 1 East Main Street, Rising Sun, MD 21911.
Unincorporated Areas of Cecil County Maps are available for inspection at the Cecil County Office of Planning and Zoning, 200 Chesapeake Boulevard, Suite 2300, Elkton, MD 21921.

(Catalog of Federal Domestic Assistance No. 97.022, “Flood Insurance.”)

Roy Wright,
Deputy Associate Administrator for Mitigation, Department of Homeland Security, Federal Emergency Management Agency.

[FR Doc. 2013-05313 Filed 3-6-13; 8:45 am]

BILLING CODE 9110-12-P